DEPARTMENT OF HEALTH AND HUMAN SERVICES

Agency for Toxic Substances and Disease Registry

Program To Build Capacity To Conduct Environmental Medicine and Health Education Activities

Announcement Type: New.

Funding Opportunity Number: 04079.

Catalog of Federal Domestic Assistance Number: 93.161.

Key Dates: Application Deadline: June 7, 2004.

Executive Summary: This program announcement is intended to increase professional and lay health education services, and build environmental medicine capacity, to inform and educate national professional organizations engaged in clinical healthcare practice, their members and constituent stakeholders, and other Agency for Toxic Substances and Disease Registry (ATSDR) partners working to assist communities to cope with environmental contamination.

I. Funding Opportunity Description

Authority: This program is authorized under Sections 104(i) (14) of the Comprehensive Environmental Response, Compensation, and Liability Act of 1980 (CERCLA), as amended by the Superfund Amendments and Reauthorization Act of 1986 (SARA) [42 U.S.C. 9604(i) (14)].

Purpose: The purpose of the program is to provide professional and lay health education services, and build capacity for increased subject matter expertise, in environmental medicine among national professional organizations engaged in clinical healthcare practice, their members and constituent stakeholders, and other ATSDR partners working to assist communities to cope with environmental contamination. This program addresses the “Healthy People 2010” focus area of Educational and Community-Based Programs, Environmental Health, and Age-Related Objectives for Children.

Measurable outcomes of the program will be in alignment with one or more of the following performance goals for the ATSDR: (1) Prevent ongoing and future exposures and resultant health effects from hazardous waste sites and releases; (2) mitigate the risks of human health effects at toxic waste sites with documented exposures; and (3) build and enhance effective partnerships.

Activities: Awardee activities for this project are as follows:

Required Recipient Activities:

• Assemble and communicate information on educational products, services, and capacity enhancements (e.g., training, resource materials, practice aids, technical assistance, etc.) needed to improve the practice of environmental medicine and health education among the applicant's national organizational members and its constituent partners in environmental medicine.

• Develop, implement, and evaluate products, services, and capacity enhancements provided to improve the practice of environmental medicine and health among the applicant's members and its constituent partners, including healthcare clinicians, environmental health educators, and other ATSDR constituents. Such activities should include information about the unique vulnerabilities and special needs of children where appropriate.

• Provide all educational products and, when appropriate, other services and capacity enhancements in an electronic format for distribution and use through the Internet and/or other technology-centered forms of information transfer.

• Evaluate the effectiveness and impact of the educational products, services, and capacity enhancements through the practices of environmental medicine and environmental health education.

• Attend and participate in the annual ATSDR Partners Meeting normally held in Atlanta, Georgia, including assisting in planning and presenting program activities and evaluation results.

Optional Recipient Enhancement Activities:

• Provide site-specific consultation and capacity building activities specific to environmental medicine and health education capabilities in ATSDR-served community sites that are concerned with chemical contamination.

In a cooperative agreement, ATSDR staff is substantially involved in the project activities, above and beyond routine grant monitoring.

ATSDR Activities for this project are as follows:

• Provide technical assistance in identifying the constituent and organizational member needs for environmental medicine and health education resources.

• Provide information, instructional resources, technical assistance and collaboration needed to work effectively in communities dealing with known contamination.

• Assist in the development of the evaluation plans that address the effectiveness and impact of the overall project.

• Provide assistance in establishing communication and resource networks between applicants and such partners as other federal agencies, state and local health departments, tribal governments, environmental and health professional non-governmental organizations, and academic, medical, and clinical associations.

• Provide technical assistance and collaboration in the dissemination of resource materials, including assistance to apply distance learning outreach, consultation, and training.

• Assist in providing training related to exposure assessment, health concerns response, and community involvement in contaminated sites.

II. Award Information

Type of Award: Cooperative agreement.

ATSDR involvement in this program is listed in the Activities Section above.

Fiscal Year Funds: 2004.

Approximate Total Funding: $115,000.

Approximate Number of Awards: One-two.

Approximate Average Award: $115,000 (This amount is for the first 12-month budget period, and includes both direct and indirect costs.)

Floor of Award Range: $70,000.

Ceiling of Award Range: $115,000.

Anticipated Award Date: July 1, 2004.

Budget Period Length: 12 months.

Project Period Length: Up to five years.

Throughout the project period, ATSDR commitment to continuation of awards will be conditioned on the availability of funds, evidence of satisfactory progress by the recipient (as documented in required reports), and the determination that continued funding is in the best interest of the Federal Government.

III. Eligibility Information

III.1. Eligible Applicants

Applications may be submitted by public non-profit national member organizations of medical and allied healthcare professionals with subject matter expertise in environmental medicine, clinical practice, and medical consultation as well as experience in environmental health education. Applicants must demonstrate experience and expertise in providing educational products, services, and capacity enhancements (e.g. training, resource materials, practice aids, technical assistance, and education of professional and lay audiences) to their organizational members, their constituent partners, and community populations concerned with environmental contamination like those served by ATSDR and its partners.

Justification for Limitation on Eligibility: This project engages national expertise in environmental medical assistance to communities, families, and individuals who are threatened or affected by illness from exposures to hazardous substances. Through collaboration with national medical and clinical professional organizations, the field of environmental medicine is stimulated to grow at all levels of the health and medical care system. In addition, national organizations are capable of providing increased local capacity to respond quickly to concerns in contaminated communities across the nation.

III.2. Cost Sharing or Matching

Matching funds are not required for this program.

III.3. Other Eligibility Requirements

If the requested funding amount is greater than the ceiling of the award range, the application will be considered non-responsive and will not be entered into the review process. You will be notified that your application did not meet the submission requirements.

If your application is incomplete or non-responsive to the requirements listed, it will not be entered into the review process. You will be notified that your application did not meet the submission requirements.

Note: Title 2 of the United States Code section 1611 states that an organization described in section 501(c)(4) of the Internal Revenue Code that engages in lobbying activities is not eligible to receive Federal funds constituting an award, grant, or loan.

IV. Application and Submission Information

IV.1. Address To Request Application Package

To apply for this funding opportunity use application form PHS 5161. Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Application: You must include a project narrative with your application forms. Your narrative must be submitted in the following format:

• Maximum number of pages: 25. If your narrative exceeds the page limit, only the first pages which are within the page limit will be reviewed.

• Font size: 12 point unreduced.

• Paper size: 8.5 by 11 inches.

• Page margin size: One inch.

• Printed only on one side of page.

• Held together only by rubber bands or metal clips; not bound in any other way.

• Double-spaced.

Your narrative should address work required to be conducted over the entire project period, and must include the following items in the order listed:

• Project Plan:

1. Background: A brief discussion demonstrating an understanding of issues of chemical and toxic contamination of communities in the United States (U.S.), including disproportionate risk to children and other vulnerable populations.

2. Target Populations and Their Needs in Environmental Medicine and Health Education: An explanation of populations (e.g., organizational members, partners, and community residents) that can be reached by the national organization and the perceived needs these populations have for health education services and environmental medicine resources.

3. Project Goals and Objectives: This section should provide clearly stated project objectives that are realistic, measurable, and related to program requirements.

4. Activities and Timeline: The activities of the project should be clearly presented to demonstrate a sufficient time allocation, and chronology or sequence of events to be conducted. The activities should provide specificity and demonstrate feasibility of the proposed activities in the form of a plan of work and timeline for accomplishing the project activities.

5. Plan for Collaboration: The project plan should present the intent and scope of activities that the applicant intends to undertake within his/her membership organization and with key constituent groups as well as the level of interaction intended to occur with the partner networks of ATSDR.

• Capacity to Influence Clinical Practice in Environmental Medicine and Health Education: In this section, a discussion of past and present activities that demonstrate a capability to:

1. Plan, conduct, and evaluate clinical practice in environmental medicine and health education initiatives for professional and lay audiences.

2. Provide consultative services in the clinical practice of environmental medicine and health education activities for professional and lay audiences.

3. Develop and deliver resources that support clinical practice in environmental medicine and health education efforts for professional and lay audiences.

4. Demonstrates a history of collaborative environmental health work.

• Personnel: This section should address the qualification, experience, and responsibilities of each individual working on the project. Adequate time and effort necessary to provide effective leadership should be demonstrated by the project lead. Any new staffing requirements should be addressed with inclusion of a recruitment plan and position descriptions. Vitas or resumes should be provided for all existing staff.

• Evaluation Plan: The project evaluation plan should address the evaluation strategies and methods necessary to measure impacts and outcomes of the project interventions. It should present measures for the overall project and its impact and outcome, such as achievement of stated public health objectives and effect of the project on the stated population. Other project measures may be changes in the knowledge, attitudes, and behaviors or practices of the target population/audience, or professional/community-wide changes intended to occur in programs, policies, or the physical environment that influences the health of the target populations. To the extent possible, the evaluation measures must be objective and quantitative and relate to the performance goals stated in section “B. Purpose” of this announcement.

• Budget Justification: A clearly justified budget narrative that is consistent with the purpose, relates directly to project activities, is clearly justified, and is consistent with intended use of funds is required.

Additional information may be included in the application appendices. The appendices will not be counted toward the narrative page limit. This additional information includes:

• Curriculum Vitas or Resumes.

• Organizational Charts.

• Letters of Support.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/ funding/pubcommt.htm.

If your application form does not have a DUNS number field, please write your DUNS number at the top of the first page of your application, and/or include your DUNS number in your application cover letter.

You must submit a signed original and two copies of your application forms.

Additional requirements that may require you to submit additional documentation with your application are listed in section “VI.2. Administrative and National Policy Requirements.”

IV.3. Submission Dates and Times

Application Deadline Date: June 7, 2004.

Explanation of Deadlines: Applications must be received in the CDC Procurement and Grants Office by 4 p.m. eastern time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This program announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Executive Order 12372 does not apply to his program.

IV.5. Funding Restrictions

Funding restrictions, which must be taken into account while writing your budget, are as follows:

• Funds may be expended for reasonable program purposes, such as personnel, travel, supplies and services, including contractual.

• ATSDR funding is generally not to be used for the purchase of furniture or equipment.

• The direct and primary recipient in a cooperative agreement program must perform a substantive role in carrying out project activities and not merely serve as a conduit for an award to another party or provider who is an ineligible party.

If you are requesting indirect costs in your budget, you must include a copy of your indirect cost rate agreement. If your indirect cost rate is a provisional rate, the agreement should be less than 12 months of age.

Awards will not allow reimbursement of pre-award costs.

Guidance for completing your budget can be found on the CDC Web site, at the following Internet address: http://www.cdc.gov/od/pgo/funding/ budgetguide.htm.

IV.6. Other Submission Requirements

Application Submission Address: Submit the original and two hard copies of your application by mail or express delivery service to: Technical Information Management—PA# 04079, CDC Procurement and Grants Office, 2920 Brandywine Road, Atlanta, GA 30341.

Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Proposed Project—40 Percent

a. Clearly stated understanding of environmental public health problems associated with communities and other locations affected with hazardous contaminations, including any special risks to children as a susceptible population.

b. Clear and reasonable public health goals and clearly stated project objectives that are realistic, measurable, and related to program requirements.

c. Identification of specific target audiences and their needs in clinical practice of environmental medicine and health education.

d. Specificity and feasibility of the proposed timeline for implementing project activities.

e. Appropriateness and thoroughness of the proposed activities for the proposed target groups.

f. Plans for collaborative efforts.

g. Appropriate letters of support.

2. Capability—20 Percent

a. Capability to develop and distribute national guidance in clinical practice of environmental medicine and health education initiatives and the supportive resource materials.

b. Demonstrated ability to plan, conduct, and evaluate clinical practice in environmental medicine and health education activities, including training.

c. Capability to prove consultative services nationally through the organization's membership.

d. Demonstrated ability to collaborate effectively with a variety of public health and clinical partners.

3. Proposed Personnel—20 Percent

a. Ability of the applicant to provide adequate program staff and support staff, including proposed consultants or contractors.

b. Experience and expertise of proposed staff in developing, distributing, implementing, and evaluating clinical guidance in environmental medicine and health education initiatives and the supporting intervention materials.

4. Evaluation Plan—20 Percent

a. Strategies and methods to measure impacts and outcomes of project interventions, such as changes in target population/audience knowledge, attitudes, and behaviors or practices, as well as environmental changes within a community or professional organization.

b. Specific evaluation plan to measure overall project impact and outcome, such as achievement of stated public health objectives and effect of the project on the stated population.

5. Proposed Budget—(Not Scored)

Is the budget reasonable, clearly justified with a budget narrative, and consistent with the intended use of cooperative agreement funds?

V.2. Review and Selection Process

Applications will be reviewed for completeness by the Procurement and Grants Office (PGO) staff, and for responsiveness by ATSDR. Incomplete applications and applications that are non-responsive to the eligibility criteria will not advance through the review process. Applicants will be notified that their application did not meet submission requirements.

An objective review panel will evaluate complete and responsive applications according to the criteria listed in the “V.1. Criteria” section above.

In addition, the following factors may affect the funding decision: Ability to provide site-specific consultation on environmental health concerns in locations where NCEH/ATSDR is assisting communities to cope with hazardous contamination.

V.3. Anticipated Announcement Award Date: August 1, 2004.

VI. Award Administration Information

VI.1. Award Notices

Successful applicants will receive a Notice of Grant Award (NGA) from the CDC Procurement and Grants Office. The NGA shall be the only binding, authorizing document between the recipient and ATSDR. The NGA will be signed by an authorized Grants Management Officer, and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-1 Human Subjects Requirements

• AR-9 Paperwork Reduction Act Requirements

• AR-10 Smoke-Free Workplace Requirements

• AR-11 Healthy People 2010

• AR-12 Lobbying Restrictions

• AR-14 Accounting System Requirements

• AR-15 Proof of Non-Profit Status

• AR-18 Cost Recovery-ATSDR

• AR-19 Third Party Agreements-ATSDR

• Materials Review: All materials, including meeting agendas, course notebooks, and fact sheets, developed with cooperative agreement funding must be reviewed by the ATSDR Project Officer in draft before they are finalized and disseminated. ATSDR will return draft materials with comments within two weeks of receipt. All materials developed with cooperative agreement must contain acknowledgement of funding as follows:

This material was developed under a cooperative agreement from the Agency for Toxic Substances and Disease Registry, U.S. Department of Health and Human Services, with funding from the Comprehensive Environmental Response, Compensation and Liability Act (CERCLA) of 1980 as amended by the Superfund Amendment and Reauthorization Act (SARA) of 1986.

All materials developed with cooperative agreement funds will not be copyrighted and will remain in the public domain to encourage wide distribution. ATSDR will receive final paper and electronic copies (electronic files are to be compatible with ATSDR software) of all materials developed by the awardee.

Additional information on these requirements can be found on the CDC Web site at the following Internet address: http://www.cdc.gov/od/pgo/funding/ARs.htm.

VI.3. Reporting Requirements

You must provide CDC with an original, plus two hard copies of the following reports:

1. Interim progress report, no less than 90 days before the end of the budget period. The progress report will serve as your non-competing continuation application, and must contain the following elements:

a. Current Budget Period Objectives and Activities.

b. Current Budget Period Financial Progress.

c. New Budget Period Program Proposed Objectives and Activity.

d. Detailed Line-Item Budget and Justification.

e. Additional Requested Information.

f. Measures of Effectiveness.

2. Financial status report and annual progress report are due 60 after the end of the budget period.

3. Final financial and performance reports, no more than 90 days after the end of the project period.

These reports must be sent to the Grants Management Specialist listed in the “Agency Contacts” section of this announcement.

VII. Agency Contacts

For general questions about this announcement, contact: Technical Information Management Section, CDC Procurement and Grants Office, 2920 Brandywine Road, Atlanta, GA 30341, Telephone: 770-488-2700.

For program technical assistance, contact: Brenda L. Adams, Project Officer, CPET/PSB/DHEP/ATSDR, 1600 Clifton Road, NE., Mailstop E-33, Atlanta, Georgia 30333, Telephone: 404-498-0513, E-mail: badams@cdc.gov.

For budget assistance, contact: Edna Green, Grants Management Specialist, CDC Procurement and Grants Office, 2920 Brandywine Road, Atlanta, GA 30341, Telephone: 770-488-2743, E-mail: egreen@cdc.gov.

Dated: April 2, 2004.
William P. Nichols, MPA,
Acting Director, Procurement and Grants Office, Centers for Disease Control and Prevention.

[FR Doc. 04-7940 Filed 4-7-04; 8:45 am]

BILLING CODE 4163-70-P